DEPARTMENT OF THE INTERIOR

Bureau of Land Management

[A2407-014-004-065516; #O2412-014-004-047181.1]

Public Land Order No. 7965; National Defense Operating Area Withdrawal, Yuma County, AZ

AGENCY: Bureau of Land Management, Interior.

ACTION: Public land order.

SUMMARY: This Order withdraws, subject to valid existing rights, approximately 203 acres of Federal lands from settlement, sale, location, and entry under the general land laws, including the United States mining laws, mineral leasing laws, and geothermal leasing laws, for a period of 3 years for use by the Department of the Navy for border security purposes. This withdrawal also transfers administrative jurisdiction of the lands to the Department of the Navy.

DATES: This PLO takes effect on September 8, 2025.

FOR FURTHER INFORMATION CONTACT: Lucas Lucero, Southwest Border Coordinator, Arizona, telephone: 480-268-1387, email: llucero@blm.gov.

Individuals in the United States who are deaf, deafblind, hard of hearing, or have a speech disability may dial 711 (TTY, TDD, or TeleBraille) to access telecommunications relay services for contacting Mr. Lucero. Individuals outside the United States should use the relay services offered within their country to make international calls to the point-of-contact in the United States.

SUPPLEMENTARY INFORMATION:

Order

By virtue of the authority vested in the Secretary of the Interior by section 204 of the Federal Land Policy and Management Act of 1976 (FLPMA), 43 U.S.C. 1714, and in accordance with subsection 204(e) of that Act, it is determined that an emergency situation exists and that extraordinary measures must be taken to preserve values that would otherwise be lost. It is therefore ordered as follows:

1. Subject to valid existing rights, the following described Federal lands are hereby withdrawn from settlement, sale, location, and entry under the general land laws, including the United States mining laws, mineral leasing laws, and geothermal leasing laws, and jurisdiction over such lands is hereby transferred to the Department of the Navy for border security purposes.

Legal Description Parcel A

A strip of land of the uniform width of 60 feet, lying contiguous to and parallel with the international border, along the Colorado River, between the United States and Mexico according to “MINUTE NO. 253, MAPS OF THE INTERNATIONAL BOUNDARY IN THE RIO GRANDE AND IN THE COLORADO RIVER”, dated September 23, 1976, and the associated location maps delineated in accordance with the Treaty of November 23, 1970, “VOLUME 3—Colorado River from Yuma to San Luis”, and any successors thereto, subject to Presidential Proclamation No. 758 Stat. 2136 (May 27, 1907) (commonly known as the “Roosevelt Reservation”), situated within the County of Yuma, State of Arizona, United States of America;

Except any portion lying within the following described parcels:

Gila and Salt River Meridian, Arizona

Fractional T. 8 S., R. 24 W.,

Sec. 28, lot 1, and the operational footprint of the Morelos Dam.

Fractional T. 9 S., R. 24 W.,

Sec. 8, lot 3, SE¼NW¼, NE¼SW¼, and SW¼SW¼;

Sec. 18, lot 17;

Sec. 19.

Fractional T. 9 S., R. 25 W.

Fractional T. 10 S., R. 25 W.,

Sec. 2;

Sec. 10;

Sec. 11;

Sec. 14, lots 8 and 9;

Sec. 15.

The area described above for Parcel A contains approximately 90 acres of Federal lands in Yuma County, derived from GIS data located in the BLM Arizona State Office.

Legal Description Parcel B

A strip of land of the uniform width of 60 feet, lying contiguous to and parallel with the international border between the United States and Mexico, currently subject to Presidential Proclamation No. 758, 35 Stat. 2136 (May 27, 1907) (commonly known as the “Roosevelt Reservation”), located in the County of Yuma, State of Arizona, and situate in the following described locations:

Gila-Salt River Meridian, Arizona

Fractional T. 11 S., R. 23 W.,

Sec. 28;

Sec. 29;

Sec. 30;

Sec. 33;

Sec. 34;

Sec. 35;

Sec. 36.

Fractional T. 12 S., R. 23 W.,

Sec. 1.

Fractional T. 11 S., R. 24 W.,

Sec. 7, lots 8 thru 11;

Sec. 15;

Sec. 16;

Sec. 17;

Sec. 22;

Sec. 23, excepting the existing port of entry paved roadway;

Sec. 24;

Sec. 25.

Fractional T. 11 S., R. 25 W.,

Sec. 10, lot 4;

Sec. 11, lots 5 thru 8;

Sec. 12, lots 5 thru 8, excepting the existing port of entry paved roadway.

The area described above for Parcel B aggregate approximately 113 acres of Federal lands in Yuma County, derived from GIS data located in the BLM Arizona State Office.

2. This withdrawal will expire 3 years from the effective date of this Order, unless it is extended in accordance with subsections (c)(1) or (d), whichever is applicable, and (b)(1) of Section 204 of the Federal Land Policy and Managment Act of 1976, 43 U.S.C. 1714.

Doug Burgum,
Secretary of the Interior.

[FR Doc. 2025-17546 Filed 9-10-25; 8:45 am]

BILLING CODE 4331-12-P